DEPARTMENT OF THE TREASURY

United States Mint

Agency Information Collection Activity; Proposed Collection; U.S. Coinage Practices

AGENCY: United States Mint, Department of the Treasury.

ACTION: Notice and comment.

SUMMARY: The United States Mint, a bureau of the Department of the Treasury, is announcing an opportunity for public comment on the proposed collection of certain information regarding the public's use of U.S. coins with special emphasis on low denomination coins. Under the Paperwork Reduction Act of 1995 (PRA), agencies are required to publish notice in the Federal Register concerning each proposed collection of information and to allow 60 days for public comment in response to the notice. This notice solicits comments on a proposed information collection concerning U.S. coinage practices as required to determine the public's interest according to the Coin Modernization, Oversight, and Continuity Act of 2010 (Pub. L. 111-302).

DATES: Submit either electronic or written comments on the collection of information by 60 days after the notice is published.

ADDRESSES: Submit electronic comments on the collection of information U.S.CoinagePractices@usmint.treas.gov. Submit all written comments to U.S. Coinage Practices; Office of Coin Studies; United States Mint; 801 9th Street NW., Washington, DC 20220.

FOR FURTHER INFORMATION CONTACT: Yvonne Pollard; Compliance Branch; United States Mint; 801 9th Street NW., 6th Floor; Washington, DC 20220; 202-354-8400 (this is not a toll-free number); YPollard@usmint.treas.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice of the proposed collection of information before submitting the proposed collection of information to OMB for approval. To comply with this requirement, we are publishing notice of the proposed collection of information described in this document.

With respect to the following collection of information, the United States Mint invites comments on—(1) Whether the proposed collection of information is necessary for the proper performance of the United States Mint's functions, including whether the information will have practical utility; (2) the accuracy of the United States Mint's estimate of the burden of the proposed collection, including the validity of the methodology and assumptions used; (3) ways to enhance the quality, utility, and clarity of the information to be collected; and (4) ways to minimize the burden of the collection of information on respondents, including through the use of automated collection techniques, when appropriate, and other forms of information technology.

U.S. Coinage Practices Survey

The Coin Modernization, Oversight, and Continuity Act of 2010, Public Law 111-302, section 2(b)(3), authorizes the Secretary of the Treasury to consider such factors he deems appropriate and in the public interest when preparing a report and recommendations to Congress with respect to the nation's circulating coins.

Understanding the public's use and perception of United States circulating coins and coin usage is necessary for the United States Mint to carry out its mission to mint and issue circulating coins in amounts that the Secretary of the Treasury determines are necessary to meet the needs of the United States and to prepare recommendations to Congress as authorized by Public Law 111-302. The information collected will cover the following topics, with special emphasis on low denomination coins:

1. Use of coins as payment,

2. general payment preferences,

3. general awareness concerning low denomination coins,

4. attitudes regarding potential changes in coinage,

4. the use of rounding retail transactions, and

6. demographic characteristics.

The data will be used to understand the public's use and perception of specific U.S. circulating coinage for the purpose of analyzing options and proposing recommendations for possible changes to the nation's circulating coins.

To obtain this information, the United States Mint will conduct a nationally representative random-digit-dial (RDD) survey of 1,000 U.S. adults. The proposed survey will include both landline (700 interviews) and cellular (300 interviews) telephones. Interviewing will be conducted in both English and Spanish. The questionnaire should take 12 minutes to complete, including two minutes to screen for eligible participants (adults in the cellular telephone sample, the adult with the most recent birthday in the household in the landline telephone survey). The United States Mint estimates the burden of this collection of information will be as described in the table below.

Survey component | Estimated time to complete (minutes) | Population | Total burden (hours)
Screener | 2 minutes | 1250 | 41.67
Main survey | 10 minutes | 1000 | 166.67

Comments

Comments submitted in response to this notice will be summarized and/or included in the request for OMB approval.

Authority: 31 U.S.C. 5112(p)(3)(A); Pub. L. 111-302, section 2(b)(3).

Dated: April 11, 2014.
Richard A. Peterson,
Deputy Director, United States Mint.

[FR Doc. 2014-08930 Filed 4-17-14; 8:45 am]

BILLING CODE P